COMMODITY FUTURES TRADING COMMISSION

Sunshine Act Meeting

Agency Holding the Meeting: Commodity Futures Trading Commission.

Time and Date: 2 p.m., Tuesday, October 30, 2001.

Place: 1155 21st St., NW., Washington, DC, 9th Floor Conference Room.

Status: Closed.

Matters To Be Considered: Rule Enforcement Review.

Contact Person For More Information: Jean A. Webb, 202-418-5100.

Jean A. Webb,
Secretary of the Commission.

[FR Doc. 01-25913 Filed 10-10-01; 3:18 pm]

BILLING CODE 6351-01-M